DEPARTMENT OF ENERGY

Federal Energy Regulatory Commission

[Project No. 2698-100]

Duke Energy Carolinas, LLC; Notice of Application Accepted for Filing, Soliciting Comments, Motions To Intervene, and Protests

Take notice that the following hydroelectric application has been filed with the Commission and is available for public inspection:

a. Type of Application: Request for a temporary variance from elevation requirements.

b. Project No.: 2698-100.

c. Date Filed: October 27, 2017.

d. Applicant: Duke Energy Carolinas, LLC.

e. Name of Project: East Fork Hydroelectric Project.

f. Location: The project is located on the East Fork of the Tuckasegee River in Jackson County, North Carolina.

g. Filed Pursuant to: Federal Power Act, 16 U.S.C. 791a-825r.

h. Applicant Contact: Mr. Jeff Lineberger, Duke Energy Carolinas, LLC, 526 S. Church Street, Mail Stop EC 12Y, Charlotte, NC 28202, (704) 382-5942.

i. FERC Contact: Zeena Aljibury, (202) 502-6065, zeena.aljibury@ferc.gov.

j. Deadline for filing comments, motions to intervene, and protests: February 23, 2018.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2698-100.

k. Description of Request: Duke Energy Carolinas, LLC requests Commission approval for temporary modifications of normal reservoir elevations to perform maintenance work at the Tennessee Creek, Bear Creek, and Cedar Cliff Developments of the project. Duke Energy Carolinas, LLC is proposing to begin the drawdowns starting at Bear Creek Lake, then Cedar Cliff Lake, and then Tanasee Creek and Wolf Creek Lakes respectively. Drawdowns and refills would begin from February 15, 2018 and continue through August 2018. Duke Energy Carolinas, LLC will also close some of its recreation areas during the drawdown to include Bear Creek Access Area, Cedar Cliff Access Area, and Wolf Creek Access Area. Finally, Duke Energy Carolinas, LLC has consulted with the North Carolina Wildlife Resources Commission, the U.S. Fish and Wildlife Service, the United States Forest Service, and the North Carolina Division of Water Resources concerning these temporary modifications. Duke Energy Carolinas, LLC also consulted with the North Carolina State Historic Preservation Office and the Eastern Band of Cherokee Indians Tribal Historic Preservation Office.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: January 24, 2018.
Kimberly D. Bose,
Secretary.

[FR Doc. 2018-01793 Filed 1-29-18; 8:45 am]

BILLING CODE 6717-01-P